DEPARTMENT OF THE INTERIOR

Bureau of Reclamation

Glen Canyon Dam Adaptive Management Work Group (AMWG), Notice of Meeting (By Phone)

AGENCY: Bureau of Reclamation, Interior.

ACTION: Notice of Public Meeting.

SUMMARY: The Adaptive Management Program (AMP) was implemented as a result of the Record of Decision on the Operation of Glen Canyon Dam Final Environmental Impact Statement to comply with consultation requirements of the Grand Canyon Protection Act (Pub. L. 102-575) of 1992. The AMP includes a Federal advisory committee (AMWG), a technical work group (TWG), a monitoring and research center, and independent review panels. The AMWG makes recommendations to the Secretary of the Interior concerning Glen Canyon Dam operations and other management actions to protect resources downstream of Glen Canyon Dam consistent with the Grand Canyon Protection Act. The TWG is a subcommittee of the AMWG and provides technical advice and recommendations to the AMWG.

The AMWG will conduct the following conference call:

Date: Wednesday, September 6, 2006. The call will begin at 2 p.m. (EDT), 12 p.m. (MDT) and 11 a.m. (PDT, and Arizona) and conclude two (2) hours later in the respective time zones. The telephone numbers are: 801-524-3860 for Federal participants and 1-888-264-8816 for non-Federal participants and members of the public.

Agenda: The purpose of the meeting will be to review and discuss the TWG recommended Fiscal Year 2007, hydrograph, budget, and workplan, to facilitate making a recommendation to the Secretary of the Interior.

Time will be allowed for any individual or organization wishing to make formal oral comments on the call. To allow full consideration of information by the AMWG members, written notice must be provided to Dennis Kubly, Bureau of Reclamation, Upper Colorado Regional Office, 125 South State Street, Room 6107, Salt Lake City, Utah, 84138; telephone (801) 524-3715; faxogram (801) 524-3858; e-mail at dkubly@uc.usbr.gov at least five (5) days prior to the call. Any written comments received will be provided to the AMWG members.

FOR FURTHER INFORMATION CONTACT: Dennis Kubly, telephone (801) 524-3715; faxogram (801) 524-3858; or via e-mail at dkubly@uc.usbr.gov.

Dated: July 31, 2006.
Dennis Kubly,
Chief, Adaptive Management Group, Environmental Resources Division, Upper Colorado Regional Office, Salt Lake City, Utah.

[FR Doc. E6-13338 Filed 8-14-06; 8:45 am]

BILLING CODE 4310-MN-P